DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Dates and Times: July 28, 2004, 8:30 a.m.-5 p.m.; July 29, 2004, 8:30 a.m.-12:15 p.m.

Place: Holiday Inn Select, Versailles 1, 8120 Wisconsin Avenue, Bethesda, MD 20814.

Status: The meeting will be open to the public.

Agenda: The agenda for July 28 in the morning will include: Welcome and opening comments from the Chair of COGME and management staff of the Health Resources and Services Administration. There will be a review and discussion of comments on the Physician Workforce Report, with the expectation of finalizing the report. In the afternoon there will be a facilitated discussion on new and emerging issues regarding (1) the supply, distribution, and adequacy of the physician workforce in training and practice; (2) financing of medical education; and (3) Federal policies and non-Federal efforts to ensure an appropriately trained physician workforce.

The agenda for July 29 will include a presentation of a contractor's report on updating of COGME's Twelfth Report covering Minorities in Medicine, with discussions leading to approval of the report.

Agenda items are subject to change as priorities dictate.

For Further Information Contact: Anyone requiring information regarding the meeting should contact Jerald M. Katzoff, Acting Deputy Executive Secretary, Council on Graduate Medical Education, Division of Medicine and Dentistry, Bureau of Health Professions, Room 9A-27, Parklawn Building, 5600 Fishers Lane, Rockville, Maryland 20857, Telephone (301) 443-6326.

Dated: June 17, 2004.
Tina M. Cheatham,
Director, Division of Policy Review and Coordination.

[FR Doc. 04-14267 Filed 6-23-04; 8:45 am]

BILLING CODE 4165-15-P